DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, no later than February 16, 2016.

Interested persons are invited to submit written comments regarding the subject matter of the investigations to the Director, Office of Trade Adjustment Assistance, at the address shown below, not later than February 16, 2016.

The petitions filed in this case are available for inspection at the Office of the Director, Office of Trade Adjustment Assistance, Employment and Training Administration, U.S. Department of Labor, Room N-5428, 200 Constitution Avenue NW., Washington, DC 20210.

Signed at Washington, DC, this 12th day of January, 2016.
Jessica R. Webster,
Certifying Officer, Office of Trade Adjustment Assistance.

APPENDIX

97 TAA Petitions Instituted Between 12/14/15 and 1/8/16
TA-W | Subject firm (petitioners) | Location | Date of institution | Date of petition
91218 | Mesabi Radial Tire Company (State/One-Stop) | Hibbing, MN | 12/14/15 | 12/11/15
91219 | AVX Corporation (State/One-Stop) | Conway, SC | 12/14/15 | 12/11/15
91220 | Crisp Manufacturing Co., Inc. (Company) | Rural Retreat, VA | 12/14/15 | 12/14/15
91221 | Rockwood Lithium (Workers) | New Johnsonville, TN | 12/14/15 | 12/11/15
91222 | Meggitt Aircraft Braking Systems (Union) | Akron, OH | 12/14/15 | 12/14/15
91223 | Maquet Cardiovascular—Getinge Group (State/One-Stop) | Wayne, NJ | 12/15/15 | 12/14/15
91224 | GM Subsystems, LLC (State/One-Stop) | Lake Orion, MI | 12/15/15 | 12/14/15
91225 | XALT Energy, LLC (State/One-Stop) | Midland, MI | 12/15/15 | 12/14/15
91226 | Vani Quality Quest, Inc. (State/One-Stop) | Dearborn, MI | 12/15/15 | 12/14/15
91227 | Oakland Stamping—Orion LLC (State/One-Stop) | Lake Orion, MI | 12/15/15 | 12/14/15
91228 | Johnson Controls (Company) | Nampa, ID | 12/15/15 | 12/14/15
91229 | American Process Inc.—Alpena Biorefinery (Company) | Alpena, MI | 12/15/15 | 12/14/15
91230 | BAE Systems RO Defense Inc. (Workers) | Hattiesburg, MS | 12/15/15 | 12/14/15
91231 | Sodecia (State/One-Stop) | Lake Orion, MI | 12/15/15 | 12/14/15
91232 | Alcoa (Union) | Massena, NY | 12/16/15 | 12/15/15
91233 | ThermoFisher Scientific (State/One-Stop) | Austin, TX | 12/16/15 | 12/15/15
91234 | Cyclone Drilling (State/One-Stop) | Gillette, WY | 12/16/15 | 12/14/15
91235 | Chart Energy and Chemicals (Union) | La Crosse, WI | 12/16/15 | 12/14/15
91236 | IAC Acoustics, formerly Maxim Silencers () | Stafford, TX | 12/17/15 | 12/16/15
91237 | Siemens Industry, Inc. (Union) | Norwood, OH | 12/17/15 | 10/09/15
91238 | Somerset Regional Water Resources (Workers) | Somerset, PA | 12/18/15 | 12/15/15
91239 | Umicore Optical Materials USA Inc. (Company) | Quapaw, OK | 12/18/15 | 12/17/15
91240 | Static Control Components, Inc. (Workers) | Sanford, NC | 12/18/15 | 12/18/15
91241 | Ensign US Drilling (Workers) | Denver, CO | 12/18/15 | 12/17/15
91242 | HCL America—(Alcatel-Lucent offices) (Workers) | Naperville, IL | 12/18/15 | 12/17/15
91243 | Motorola Mobility LLC (Workers) | Chicago, IL | 12/21/15 | 12/21/15
91244 | Amphenol Corporation (Union) | Sidney, NY | 12/21/15 | 12/18/15
91245 | Concentrix (Workers) | Greenville, SC | 12/21/15 | 12/18/15
91246 | Carlisle Industrial Brake & Friction (Workers) | Bloomington, IN | 12/22/15 | 12/01/15
91247 | ESCO Corporation (State/One-Stop) | Portland, OR | 12/22/15 | 12/16/15
91248 | Exal Corporation (State/One-Stop) | Youngstown, OH | 12/22/15 | 12/21/15
91249 | Richland Center Foundry (Workers) | Richland Center, WI | 12/22/15 | 12/17/15
91250 | Koppers Inc. Follansbee Location (Company) | Follansbee, WV | 12/22/15 | 12/18/15
91251 | ATI Flat-rolled Products (Union) | BrackenRidge, PA | 12/22/15 | 12/19/15
91252 | Joy Global (State/One-Stop) | Virginia, MN | 12/22/15 | 12/21/15
91253 | Cast Corporation (State/One-Stop) | Hibbing, MN | 12/23/15 | 12/21/15
91254 | Idea Drilling LLC (State/One-Stop) | Virginia, MN | 12/23/15 | 12/21/15
91255 | DMI International, Inc. and Dieco Manufacturing, Inc. (Company) | Tulsa, OK | 12/23/15 | 12/21/15
91256 | Electrofilm Manufacturing Company (State/One-Stop) | Valencia, CA | 12/23/15 | 12/21/15
91257 | NRG Energy, Inc. (Union) | Tonawanda, NY | 12/23/15 | 12/22/15
91258 | IBM Office—Work from home (State/One-Stop) | Denver, CO | 12/23/15 | 12/22/15
91259 | Seagate Technology LLC (State/One-Stop) | Shrewsbury, MA | 12/23/15 | 12/22/15
91260 | Vishay Siliconix (Company) | Santa Clara, CA | 12/24/15 | 12/23/15
91261 | NY Life Insurance Company (State/One-Stop) | Sleepy Hollow, NY | 12/24/15 | 12/11/15
91262 | Wyndham Hotel Group (Workers) | Aberdeen, SD | 12/24/15 | 12/22/15
91263 | Halliburton Energy Services (Workers) | Montgomery, PA | 12/28/15 | 12/24/15
91264 | Shenango Incorporated (Company) | Pittsburgh, PA | 12/28/15 | 12/28/15
91265 | Rosebud Mining Company (Company) | Kittanning, PA | 12/30/15 | 12/30/15
91266 | QBE Americas, Inc. (State/One-Stop) | Weatogue, CT | 12/30/15 | 12/30/15
91267 | Stone Transport (State/One-Stop) | Saginaw, MI | 12/30/15 | 12/29/15
91268 | Canadian National-Dock Headquarters (State/One-Stop) | Duluth, MN | 12/30/15 | 12/29/15
91269 | Dom-Ex Inc.—Crown Parts (State/One-Stop) | Hibbing, MN | 12/31/15 | 12/30/15
91270 | Eaton Corporation—Pewaukee (Company) | Pewaukee, WI | 12/31/15 | 12/28/15
91271 | AVX Corporation (Company) | Conway, SC | 12/31/15 | 11/12/15
91272 | L-3 Communication LS ISR (State/One-Stop) | Beale Air Force Base, CA | 12/31/15 | 12/09/15
91273 | Boeing Vertical Lift (State/One-Stop) | Ridley Park, PA | 12/31/15 | 12/22/15
91274 | Cummins Northwest/Cummins Inc. (State/One-Stop) | Portland, OR | 12/31/15 | 12/30/15
91275 | TTM Technologies (Company) | Milpitas, CA | 01/04/16 | 12/30/15
91276 | Trimble Navigation (State/One-Stop) | Broomfield, CO | 01/04/16 | 12/31/15
91277 | Hammerlund Construction Inc. (State/One-Stop) | Grand Rapids, MN | 01/04/16 | 12/31/15
91278 | Allegheny Technologies Incorporated (Union) | Midland, PA | 01/05/16 | 01/04/16
91279 | Allegheny Technologies Incorporated (Union) | Bagdad, PA | 01/05/16 | 01/04/16
91280 | Cengage Learning (Workers) | Mason, OH | 01/05/16 | 01/04/16
91281 | CareFusion (State/One-Stop) | Ehglewood, CO | 01/05/16 | 01/04/16
91282 | ALM Media (Workers) | Erlanger, KY | 01/05/16 | 01/05/16
91283 | Rapid Process Equipment (State/One-Stop) | Cohasset, MN | 01/06/16 | 01/05/16
91284 | Ferus (State/One-Stop) | Jenkins, KY | 01/06/16 | 01/05/16
91285 | Gildan (State/One-Stop) | Hamer, SC | 01/06/16 | 01/05/16
91286 | Zodiac American Pools (State/One-Stop) | Vista, CA | 01/06/16 | 01/05/16
91287 | Viking Explosives & Supply Inc. (State/One-Stop) | Hibbing, MN | 01/06/16 | 01/05/16
91288 | ShopKo Stores (State/One-Stop) | Omaha, NE | 01/06/16 | 12/24/15
91289 | CommScope, Inc. (State/One-Stop) | Sidney, NE | 01/06/16 | 12/24/15
91290 | ConAgra (State/One-Stop) | Omaha, NE | 01/06/16 | 12/24/15
91291 | Alorica (State/One-Stop) | Omaha, NE | 01/06/16 | 12/24/15
91292 | Catholic Health Initiative (State/One-Stop) | Omaha, NE | 01/06/16 | 12/24/15
91293 | AK Steel Ashland Works (Workers) | Ashland, KY | 01/06/16 | 12/30/15
91294 | AK Steel (Ashland Works) (Workers) | Ashland, KY | 01/06/16 | 01/05/16
91295 | Allegheny Technologies Incorporated (Union) | Midland, PA | 01/06/16 | 01/05/16
91296 | Tritec of Minnesota Inc. (State/One-Stop) | Virginia, MN | 01/07/16 | 01/06/16
91297 | Magnetation (State/One-Stop) | Grand Rapids, MN | 01/07/16 | 01/06/16
91298 | Furin & Shea Welding (State/One-Stop) | Hibbing, MN | 01/07/16 | 01/06/16
91299 | Mekra Lang (State/One-Stop) | Ridgeway, SC | 01/07/16 | 01/06/15
91300 | QBE North America (State/One-Stop) | Greenwood Village, CO | 01/07/16 | 01/06/16
91301 | Con-Way Freight (State/One-Stop) | Pittsburgh, PA | 01/07/16 | 01/06/16
91302 | Pacific Recycling, Inc. (State/One-Stop) | Eugene, OR | 01/08/16 | 01/07/16
91303 | Master Halco, Inc. (State/One-Stop) | Scranton, PA | 01/08/16 | 01/07/16
91304 | Sun Edison Inc. (State/One-Stop) | Portland, OR | 01/08/16 | 01/07/16
91305 | Newberg Waste Management (State/One-Stop) | Newberg, OR | 01/08/16 | 01/07/16
91306 | MicroPower Electronics Inc. (State/One-Stop) | Beaverton, OR | 01/08/16 | 01/07/16
91307 | LaCie USA (State/One-Stop) | Tigard, OR | 01/08/16 | 01/07/16
91308 | Seagate Technology, LLC (Company) | Shrewsbury, MA | 01/08/16 | 01/07/16
91309 | Minnesota Rubber & Plastics (Quadion LLC) (State/One-Stop) | Watertown, SD | 01/08/16 | 01/07/15
91310 | Malton Electric (State/One-Stop) | Virginia, MN | 01/08/16 | 01/07/15
91311 | Lakehead Constructors Inc. (State/One-Stop) | Virginia, MN | 01/08/16 | 01/07/16
91312 | Evraz Stractor (State/One-Stop) | Hot Springs, AR | 01/08/16 | 01/07/16
91313 | American Tube and Paper Co. (Union) | Totowa, NJ | 01/08/16 | 01/07/16
91314 | Exterran Energy Solutions (Workers) | Youngstown, OH | 01/08/16 | 01/07/16

[FR Doc. 2016-01867 Filed 2-2-16; 8:45 am]

BILLING CODE 4510-FN-P